DEPARTMENT OF COMMERCE

Foreign-Trade Zones Board

[Docket 7-2012]

Epson Portland, Inc.—Expansion of Manufacturing Authority; Reopening of Comment Period

The comment period on the application by the Port of Portland, grantee of FTZ 45 to expand the scope of manufacturing authority approved within Subzone 45F, on behalf of Epson Portland, Inc. (EPI), Hillsboro, Oregon (77 FR 4006-4007, 1/26/2012), has been reopened based on a request from an interested party. The comment period for the case referenced above is being reopened to May 9, 2012, to allow interested parties additional time in which to comment. Rebuttal comments may be submitted during the subsequent 15-day period, until May 24, 2012. Submissions shall be addressed to the Board's Executive Secretary at: Foreign-Trade Zones Board, U.S. Department of Commerce, Room 2111, 1401 Constitution Avenue NW., Washington, DC 20230.

For further information, contact Diane Finver at Diane.Finver@trade.gov or (202) 482-0473.

Dated: April 3, 2012.
Elizabeth Whiteman,
Acting Executive Secretary.

[FR Doc. 2012-8488 Filed 4-6-12; 8:45 am]

BILLING CODE P